DEPARTMENT OF ENERGY

Federal Energy Regulatory Commission

[Docket No. CP01-33-000]

Northern Natural Gas Company; Notice of Application

November 30, 2000.

Take notice that on November 20, 2000, Northern Natural Gas Company (Northern), 1111 South 103rd Street, Omaha, Nebraska 68124, filed with the Commission in Docket No. CP01-33-000 an application pursuant to Section 7(b) of the Natural Gas Act (NGA), to abandon and remove certain pipeline facilities and appurtenant equipment in Dodge and Saunders Counties, Nebraska, all as more fully set forth in the application which is open to the public for inspection.

Northern proposes to abandon and remove approximately 2,200 feet of its 16-inch diameter A-Line at its Platte River bridge crossing. Northern states that the abandonment project begins in northeastern Saunders County and ends in southwestern Dodge County. Northern also states that approximately half of the A-Line to be abandoned lies in Saunders County and the other half lies in Dodge County. The A-Line runs down the face of a 107-foot bluff on the south side of the river crossing. Several naturally caused landslides have occurred on the face of this bluff. Although the A-Line has not suffered any physical damage, Northern cannot predict the timing, location, and magnitude of a future landslide. Consistent with Northern's goal to provide safe and reliable natural gas service, Northern states that it has decided to remove the A-Line river crossing. Northern further states that it will be able to provide the capacity required to meet current firm obligations through existing facilities. Thus, the proposed abandonment of facilities would not result in the abandonment of service to any of Northern's existing customers. Northern estimates it would spend $410,000 to remove the 2,200 feet of 16-inch diameter pipe on the A-Line and the appurtenant bridge structure.

Any person desiring to be heard or to make any protest with reference to said application should on or before December 21, 2000, file with the Federal Energy Regulatory Commission, 888 First Street, N.E., Washington, D.C. 20426, a motion to intervene or a protest in accordance with the requirements of the Commission's Rules of Practice and Procedure (18 CFR 385.214 or 385.211) and the Regulations under the NGA (18 CFR 157.10). All protests filed with the Commission will be considered by it in determining the appropriate action to be taken but will not serve to make the protestants parties to the proceeding. Any person wishing to become a party to a proceeding or to participate as a party in any hearing therein must file a motion to intervene in accordance with the Commission's Rules. Comments and protests may be filed electronically via the Internet in lieu of paper. See 18 CFR 385.2001(a)(1)(iii) and the instructions on the Commission's web site at http://www.ferc.fed.us/efi/doorbell.htm.

Any questions regarding the application should be directed to Keith L. Petersen, Director, Certificates and Reporting for Northern, 1111 South 103rd Street, Omaha, Nebraska 68124, phone number (402) 398-7421, or Don Vignaroli, Senior Regulatory Analyst at (402) 398-7139.

A person obtaining intervenor status will be placed on the service list maintained by the Secretary of the Commission and will receive copies of all documents issued by the Commission, filed by the applicant, or filed by all other intervenors. An intervenor can file for rehearing of any Commission order and can petition for court review of any such order. However, an intervenor must serve copies of comments or any other filing it makes with the Commission to every other intervenor in the proceeding, as well as filing an original and 14 copies with the Commission. A person does not have to intervene, however, in order to have comments considered. A person, instead, may submit two copies of such comments to the Secretary of the Commission. Commenters will be placed on the Commission's environmental mailing list, will receive copies of environmental documents, and will be able to participate in meetings associated with the Commission's environmental review process. Comments will not be required to serve copies of filed documents on all other parties. However, commenters will not receive copies of all documents filed by other parties or issued by the Commission, and will not have the right to seek rehearing or appeal the Commission's final order to a Federal court.

Take further notice that, pursuant to the authority contained in and subject to the jurisdiction conferred upon the Federal Energy Regulatory Commission by Sections 7 and 15 of the NGA and the Commission's Rules of Practice and Procedure, a hearing will be held without further notice before the Commission or its designee on this application if no motion to intervene is filed within the time required herein, if the Commission on its own review of the matter finds that the proposal is required by the public convenience and necessity. If a motion for leave to intervene is timely filed, or if the Commission on its own motion believes that a formal hearing is required, further notice of such hearing will be duly given.

Under the procedure herein provide for, unless otherwise advised, it will be unnecessary for Northern to appear or be represented at the hearing.

David P. Boergers,
Secretary.

[FR Doc. 00-30983 Filed 12-5-00; 8:45 am]

BILLING CODE 6717-01-M